DEPARTMENT OF AGRICULTURE

Submission for OMB Review; Comment Request

March 11, 2020

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 15, 2020 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Job Search as a supplemental Nutrition Assistance Program (SNAP) Employment and Training (E&T) Component.

OMB Control Number: 0584-NEW.

Summary of Collection: The Food and Nutrition Act of 2008, as amended through Public Law 113-128, enacted July 22, 2014 [7 U.S.C. 2026], provides the legislative authority for the U.S. Department of Agriculture's (USDA) Food and Nutrition Service (FNS) to administer the Supplemental Nutrition Assistance Program (SNAP). Section 17 of the Food and Nutrition Act of 2008 provides the authority to FNS to conduct research to help improve the administration and effectiveness of SNAP. The Food Security Act of 1985 established the SNAP employment and training (E&T) program to help SNAP recipients gain the “skills, training, or experience that will increase their ability to obtain regular employment” and achieve economic self-sufficiency.

Need and Use of the Information: The purpose of this study is to document the types of job search activities offered through SNAP E&T programs, examine State implementation of these activities, and assess the effectiveness of those activities in moving participants toward employment. FNS will collect information from a sample of participating State SNAP offices, local SNAP offices, SNAP E&T providers, and other SNAP E&T stakeholders. The study will profile the job search component of SNAP E&T programs in four States via site visits. The information will be used to provide FNS with a better understanding of the types of job search activities offered through SNAP E&T programs, examine State implementation of those activities, and help FNS better understand the effectiveness of those activities in moving participants toward self-sufficiency. FNS will use findings from the study to inform program enhancements and SNAP E&T policy and guidance to States. States may also use study findings to improve their job search components.

Description of Respondents: 328 Individuals or households; 31 Business-for-or-not for-profit organizations; 101 State, Local or Tribal Government.

Number of Respondents: 460.

Frequency of Responses: Reporting: Once.

Total Burden Hours: 518.

Ruth Brown,
Departmental Information Collection Clearance Officer.

[FR Doc. 2020-05319 Filed 3-13-20; 8:45 am]

BILLING CODE 3410-30-P